ENVIRONMENTAL PROTECTION AGENCY

[OAR-2003-0078, FRL-7514-6]

Agency Information Collection Activities: Proposed Collection; Comment Request; Reporting Under EPA's Landfill Methane Outreach Program

AGENCY: Environmental Protection Agency.

ACTION: Notice.

SUMMARY: In compliance with the Paperwork Reduction Act (44 U.S.C. 3501 et seq.), this document announces that EPA is planning to submit the following continuing Information Collection Request (ICR) to the Office of Management and Budget (OMB): Reporting Under EPA's Landfill Methane Outreach Program, ICR Number 1849.02, OMB Control Number 2060-0446, expiration October 31, 2003. Before submitting the ICR to OMB for review and approval, EPA is soliciting comments on specific aspects of the proposed information collection as described below.

DATES: Comments must be submitted on or before August 18, 2003.

ADDRESSES: Follow the detailed instructions in SUPPLEMENTARY INFORMATION.

FOR FURTHER INFORMATION CONTACT: Brian Guzzone, Climate Protection Partnerships Division, Office of Atmospheric Programs, 6202J, Environmental Protection Agency, 1200 Pennsylvania Ave., NW., Washington, DC 20460; telephone number: (202) 564-2666; fax number: (202) 565-2079; e-mail address: guzzone.brian@epa.gov.

SUPPLEMENTARY INFORMATION: EPA has established a public docket for this ICR under Docket ID number OAR-2003-0078, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, and according to the following detailed instructions: Submit your comments to EPA online using EDOCKET (our preferred method), by e-mail to a-and-r-docket@epamail.epa.gov, or by mail to: EPA Docket Center, Environmental Protection Agency, Air and Radiation Docket and Information Center, MC 6102T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected Entities: Entities potentially affected by this action are those local agencies and municipalities that own landfills; State agencies; manufacturers and suppliers of equipment/knowledge to capture and utilize landfill gas; utility companies; end users of energy from the landfill.

Title: Reporting Under EPA's Landfill Methane Outreach Program (OMB Control Number 2060-0446; EPA ICR Number 1849.02; expiring October 31, 2003).

Abstract: The Landfill Methane Outreach Program (LMOP) is an EPA-sponsored voluntary program that encourages landfill owners, communities, and project developers to reduce emissions of methane, a potent greenhouse gas, by implementing landfill gas technologies that collect and utilize the methane as a source of energy. The Landfill Methane Outreach Program further encourages utilities and other energy customers to support and promote the use of landfill methane at their facilities. The Landfill Methane Outreach Program signs voluntary Memoranda of Understanding (MOU) with these organizations to enlist their support in promoting cost-effective landfill gas utilization. The information collection includes completion and submission of the MOU, and annual online completion and submission of information forms that include basic information on the organizations that sign the MOU and landfill methane projects in which they are involved. The information collection is to be utilized to maintain up-to-date data and information about Landfill Methane Outreach Program partners and landfill methane projects in which they are involved. In addition, the information collection will assist LMOP to evaluate the reduction of methane emissions from landfills. Responses to the information collection are voluntary.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this (3) three year collection of information is estimated to equal 1,531 hours and to average 3.6 hours per year per respondent. The estimated number of respondents averaged over (3) three years is 422. The average capital, start-up, and operation and maintenance cost resulting from this three year collection of information is $212 per respondent.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 29, 2003.
Kathleen Hogan,
Director.

[FR Doc. 03-15362 Filed 6-17-03; 8:45 am]

BILLING CODE 6560-50-P